DEPARTMENT OF ENERGY

Federal Energy Regulatory Commission

[Docket No. CP01-153-000]

Tuscarora Gas Transmission Company; Notice of Application

April 20, 2001.

Take notice that on April 12, 2001, Tuscarora Gas Transmission Company (Tuscarora), 1575 Delucchi Lane, Suite 225, Reno, Nevada 89520-3057, filed in Docket No. CP01-153-000 an abbreviated application pursuant to Section 7 of the Natural Gas Act (NGA), as amended, and the Commission's Rules and Regulations, for a certificate of public convenience and necessity authorizing Tuscarora to construct, install, own, operate and maintain facilities in order to provide up to 95,912 decatherms per day (Dth/d) of firm transportation service to four expansion shippers, all as more fully set forth in the application which is on file with the Commission and open to public inspection. The filing may be viewed at http://www.ferc.fed.us/online/rims.htm (call 202-208-2222 for assistance).

Tuscarora states that, in January 2000 and September 2000, it held open seasons to determine the market need for additional capacity on its system. It is indicated that the open seasons established that 95,912 dt of new capacity will be required to meet the needs of existing and new shippers by the 2002-2003 winter heating seasons. To meet those requirements, Tuscarora states that it proposes to construct and operate a 14.2 mile pipeline (1,000 psig maximum allowable operating pressure) commencing at a new interconnect at Tuscarora's existing mainline at approximately milepost (MP) 226.5, and terminating at the Paiute Interconnect Meter Station, with an additional pipeline extension leading to the Washoe Energy Facility, a proposed merchant power generation facility to be constructed by Duke Energy North America, L.L.C. approximately 3.5 miles northwest of Wadsworth, Nevada, in Washoe County, Nevada.

In addition, Tuscarora states that it has also proposed to construct and operate: (1) One new mainline/isolation valve at MP 0 on the Wadsworth lateral (near MP 226.5 on the Tuscarora mainline) (Wadsworth Tap); (2) two new meter stations and associated valves located near: (i) MP 10.5 on the Wadsworth Lateral (Paiute Interconnect), and (ii) the terminus (MP 14.2) of the Wadsworth Lateral (Washoe Meter Station); (3) three new gas-fired compressor stations located in Modoc and Lassen Counties, California; and (4) appurtenant facilities that are reasonably necessary to construct, maintain and operate the 2002 Expansion Project as more fully described in the application.

Tuscarora states that the proposed facilities will be designed to transport additional firm transportation service for the account of the four Expansion Shippers,¹ which include two Local Distribution Companies (LDCs) and two electric generating facilities. Tuscarora indicates that the Expansion Shippers have executed binding agreements with Tuscarora for long-term firm transportation service rendered pursuant to Tuscarora's existing Rate Schedule FT rates in effect from time to time.²

¹ Sierra Pacific Power Company; Southwest Gas Corporation; Duke Energy North America, L.L.C. (DENA); and, Morgan Stanley Capital Group Inc.

² The volumes per day (Dth/d) for Sierra Pacific Power Company is 11,412 (reflects a total contracted capacity of 17,073 Dth/d and includes three increments of capacity) with an in-service date of 11/1/02; for Southwest Gas Corporation is 24,500 with an in-service date of 11/1/02; for Duke Energy North America, L.L.C. is 40,000 with an in-service date of 2/1/03; and for Morgan Stanley Capital Group Inc. is 20,000 with an in-service date of 12/1/02.

Tuscarora states that it will commence installation of the facilities in or about April 2002 to meet the first of its expansion shippers' in-service dates of November 1, 2002. Tuscarora states that the urgent need for the 2002 Expansion Project is driven by the tremendous growth in gas demand in Northern Nevada and California. Tuscarora states that the two local distribution companies that are participating in this project are experiencing significant increases in their residential customer bases, resulting from extremely rapid growth in the communities they serve. Tuscarora also states that this project is further supported by two power generators that are constructing new electric generating facilities to meet the significant growth in electric power demand in the region.

Tuscarora states that the proposed facilities will cost approximately $57.8 million and that approximately 30 percent of the required capital for the expansion will be furnished by the Partners ³ as equity, and that 70 percent will be financed with debt, which will consist of bank debt during the construction period.

³ Partners refers to Tuscarora Gas Pipeline Company, TC Tuscarora Intermediate Limited Partnership, and TCPL Tuscarora Limited.

Any questions regarding this application should be directed to Terry Wolverton, Tuscarora Gas Transmission Company, 1575 Delucchi Lane, Suite 225, P.O. Box 30057, Reno, Nevada 89520-3057, call (775) 834-4292, or fax (775) 834-3886.

There are two ways to become involved in the Commission's review of this project. First, any person wishing to obtain legal status by becoming a party to the proceedings should on or before May 11, 2001, file with the Federal Energy Regulatory Commission, Washington, DC 20426, a motion to intervene or a protest in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every party in the proceeding.

Only parties to the proceeding can ask for court review of Commission orders in the proceeding.

However, a person does not have to intervene, however, in order to have comments considered. The second way to participate is by filing with the Secretary of the Commission, as soon as possible, an original and two copies of comments in support of or in opposition to the project. The Commission will consider these comments in determining the appropriate action to be taken, but the filing of a comment alone will not serve to make the filer a party to the proceeding. The Commission's rules require that persons filing comments in opposition to the project provide copies of their protests only to the party or parties directly involved with the protest.

Environmental commenters will be placed on the Commission's environmental mailing list, will receive copies of the environmental documents and will be able to participate in meetings associated with the Commission's environmental review process. Commenters will not be required to serve copies of filed documents on all other parties. However, commenters will not receive copies of all documents filed by other parties, or issued by the Commission and will not have the right to seek rehearing or appeal the Commission's final order to a federal court.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from the proposal, it is important either to file comments or to intervene as early in the process as possible.

Also, comments, protests, and interventions may be filed electronically via the internet in lieu of paper. See 18 CFR 385.2001(a)(1)(iii) and the instructions on the Commission's website at http://www.ferc.fed.us/efi/doorbell.htm.

If the Commission decides to set the application for a formal hearing before an Administrative Law Judge, the Commission will issue another notice describing that process. At the end of the Commission's review process, a final order approving or denying a certificate will be issued.

Linwood A. Watson, Jr.,
Acting Secretary.

[FR Doc. 01-10327 Filed 4-25-01; 8:45 am]

BILLING CODE 6717-01-M